DEPARTMENT OF THE INTERIOR

Bureau of Land Management

[LLNVS03000 L51010000.ER0000 LVRWF09 F8770 241A; 10-08807; MO# 4500014131; TAS: 14X5017]

Notice of Availability of the Final Environmental Impact Statement for the NextLight Renewable Power, LLC, Silver State Solar Project, Clark County, NV

AGENCY: Bureau of Land Management, Interior.

ACTION: Notice of Availability.

SUMMARY: In accordance with the National Environmental Policy Act of 1969, as amended, and the Federal Land Policy and Management Act of 1976, as amended, the Bureau of Land Management (BLM) has prepared a Final Environmental Impact Statement (EIS) for the Silver State Solar Project, Clark County, Nevada, and by this notice is announcing its availability.

DATES: The BLM will not issue a final decision on the Silver State Solar Project for a minimum of 30 days after the date that the Environmental Protection Agency publishes its notice of availability in the Federal Register.

ADDRESSES: Copies of the Silver State Solar Project Final EIS will be mailed to individuals, agencies, organizations, or companies who previously requested copies or who responded to the BLM on the Draft EIS. Printed copies or a compact disc of the Final EIS are available on request from the BLM Southern Nevada District Office, 4701 N. Torrey Pines Drive, Las Vegas, Nevada 89130, phone (702) 515-5000, or e-mail: nextlight_primm_nv_sep@blm.gov. Interested persons may also review the Final EIS at the following Web site: http://www.blm.gov/nv/st/en/fo/lvfo/blm_programs/energy.html. Copies of the Final EIS are available for public inspection at the following locations:

• BLM Nevada State Office, 1340 Financial Blvd., Reno, Nevada.

• BLM Southern Nevada District Office, 4701 N. Torrey Pines Drive, Las Vegas, Nevada.

FOR FURTHER INFORMATION CONTACT: Gregory Helseth, Renewable Energy Project Manager, phone: (702) 515-5173; address: BLM Southern Nevada District Office, 4701 N. Torrey Pines Drive, Las Vegas, Nevada 89130; e-mail: Gregory_Helseth@blm.gov.

SUPPLEMENTARY INFORMATION: NextLight Renewable Power, LLC, applied to the BLM for a right-of-way on public lands to construct a solar photovoltaic (PV) facility approximately 2 miles southeast of Primm, Nevada, in Clark County. As originally proposed, the project included 6,320 acres of BLM managed lands and was expected to operate for approximately 50 years. The proposed project would be capable of producing 400 megawatts of electricity.

The solar field and infrastructure would consist of fixed panels, an underground and overhead electrical power collection system, two step-up transformers, 230-kilovolt (kV) and 220-kV transmission lines, an operation and maintenance area, a switchyard, paved access and maintenance roads, flood and drainage controls, and a fire break.

The Final EIS describes and analyzes site-specific impacts of the proposed project on air quality; biological, cultural, water, soil, visual, paleontological, and geological resources; recreation; land use; noise; public health; socioeconomics; and traffic and transportation.

The Final EIS analyzes three alternatives, including the no action alternative (Alternative 1) and 2 action alternatives. Alternative 2, the proposed action and the BLM's preferred alternative, would disturb up to 2,967 acres of BLM managed land and would include the use of berms to reduce erosion. Alternative 3 would disturb up to 4,818 acres of BLM managed land and would employ an alternate drainage and flood control design to control erosion. The Final EIS describes the different types of solar arrays and trackers that were considered and their respective impacts.

On April 16, 2010, the BLM published the Notice of Availability for the Draft EIS for this project in the Federal Register [75 FR19990]. The BLM held 3 public meetings and accepted written comments during a 45-day comment period. Comments primarily addressed concerns with tortoise mitigation, groundwater drawdown, visual resource management, and air quality/dust control during construction.

Comments on the Draft EIS received from the public and internal BLM review were considered and are incorporated as appropriate into the Final EIS.

Authority: 40 CFR 1506.6 and 1506.10.

Robert B. Ross, Jr.,
Las Vegas Field Manager.

[FR Doc. 2010-23334 Filed 9-14-10; 4:15 pm]

BILLING CODE 4310-HC-P